DEPARTMENT OF THE INTERIOR

Fish and Wildlife Service

Draft National Management and Control Plan for the New Zealand Mudsnail (Potamopyrgus antipodarum)

AGENCY: Fish and Wildlife Service, Interior.

ACTION: Notice of document availability and request for comments.

SUMMARY: This notice announces the availability of the draft “National Management and Control Plan for the New Zealand Mudsnail (Potamopyrgus antipodarum).” The draft was prepared by the New Zealand Mudsnail Working Group of the Aquatic Nuisance Species Task Force. We are seeking public comments on this draft document. Comments received will be considered during the preparation of the final national management and control plan, which will guide cooperative and integrated management of Zealand mudsnails in the United States.

DATES: Submit your comments on the draft “National Management and Control Plan for the New Zealand Mudsnail (Potamopyrgus antipodarum)” by December 4, 2006.

ADDRESSES: The draft document is available from the Executive Secretary, Aquatic Nuisance Species Task Force, U.S. Fish and Wildlife Service, 4401 North Fairfax Drive, Arlington, VA, 22203; FAX (703) 358-1800. It also is available on our Web page at http://www.anstaskforce.gov/. Comments may be hand-delivered, mailed, or sent by fax to the address listed above. You may send comments by e-mail to: NZmudsnailPlan@fws.gov.

FOR FURTHER INFORMATION CONTACT: Scott Newsham, Executive Secretary, Aquatic Nuisance Species Task Force, at scott_newsham@fws.gov or (703) 358-1796.

SUPPLEMENTARY INFORMATION: The New Zealand mudsnail (Potamopyrgus antipodarum) is indigenous to New Zealand and its adjacent islands. In New Zealand, the snails have been found in nearly every aquatic habitat including large rivers, forested tributary streams, thermal springs, ponds, glacial lakes, and estuaries. Over the past 150 years, New Zealand mudsnails have spread in three continents.

Three different clones of New Zealand mudsnails have been identified in the United States: one is found in Lakes Ontario, Erie and Superior and is the same as Clone A found in Europe; the second is found in nine western States, having spread out from an initial population in the Snake River in Idaho; and the third has recently been identified in the Snake River, Idaho. It is speculated that the eastern U.S. clone came in ballast water from Europe and the western U.S. clones came from the commercial movement of aquaculture products such as trout eggs or live fish from Australia or New Zealand.

The introduced populations of these tiny snails (up to 6 mm) are mostly all female, and the snails are live bearers. Males are present only rarely in North America. Densities of New Zealand mudsnails fluctuate widely, reaching 500,000 snails per square meter in some locations.

A database established on the “New Zealand Mudsnail in the Western USA” Web site (http://www.esg.montana.edu/aim/mollusca/nzms/) is being used to track new populations and keep people informed about the latest research. A map showing affected watersheds is kept current by the Department of Ecology at Montana State University-Bozeman.

In 2003, the Aquatic Nuisance Species Task Force (ANSTF), which is authorized by the Nonindigenous Aquatic Nuisance Prevention and Control Act of 1990 (16 U.S.C. 4701 et seq.), established the New Zealand Mudsnail Management Plan Working Group (Working Group) to create a national management and control plan for New Zealand mudsnails. The goal of the national management and control plan for New Zealand mudsnails is to prevent and delay the spread to new areas of the United States, reduce the impacts of existing and new populations, and continue developing information to meet this goal. The Working Group developed the following objectives: (1) Identify foci, pathways and vectors; (2) develop methods of detecting new populations; (3) develop strategies and methods to control and manage populations; (4) develop further understanding of ecological and economic impacts; and (5) increase public understanding of the need to deal with New Zealand mudsnails and gain political support for implementing national plan objectives.

We are seeking public comments on all aspects of the Working Group's draft “National Management and Control Plan for the New Zealand Mudsnail (Potamopyrgus antipodarum).” Submit your comments by the date listed in DATES using one of the methods listed in ADDRESSES.

Authority: The authority for this action is the Nonindigenous Aquatic Nuisance Prevention and Control Act of 1990 (16 U.S.C. 4701 et seq.).

Dated: September 25, 2006.
Everett Wilson,
Acting Co-Chair, Aquatic Nuisance Species Task Force, Acting Assistant Director—Fisheries & Habitat Conservation.

[FR Doc. E6-17403 Filed 10-18-06; 8:45 am]

BILLING CODE 4310-55-P